DEPARTMENT OF AGRICULTURE

Forest Service

Bridger-Teton National Forest, Big Piney Ranger District, Wyoming. Cottonwood II Vegetation Treatment

AGENCY: Forest Service, USDA.

ACTION: Notice of intent to prepare an environmental impact statement.

SUMMARY: The analysis area of 41,420 acres is located in the North and South Cottonwood Creek watershed on the Big Piney Ranger District of the Bridger-Teton National Forest. It is approximately 25 miles north of Big Piney, Wyoming on the east slope of the Wyoming Range. All lands within the analysis area are National Forest System lands, within Sublette and Lincoln Counties, Wyoming The legal description includes portions of: T32N, R115W; T32N, R116W; T33N, R114W; T33N, R115W; T34N, R115W.

DATES: Comments concerning the scope of the analysis must be received by February 3, 2004. The Draft Environmental Impact Statement (Draft EIS) is expected to be available to the public in September 2004 and the Final Environmental Impact Statement (Final EIS) is expected to be available to the public in January 2005.

ADDRESSES: Send written comments to: District Ranger, Big Piney Ranger District, P.O. Box 218, Big Piney, Wyoming, 83113. For further information, e-mail correspondence to mailroom_r4_bridger_teton@fs.fed.us and on the subject line put only “Cottonwood Vegetation Treatment.”

FOR FURTHER INFORMATION CONTACT: District Ranger, Big Piney Ranger District, P.O. Box 218, Big Piney, Wyoming 83113 or phone (307) 276-3375.

SUPPLEMENTARY INFORMATION:

Purpose and Need for Action

The purpose of this proposal is to improve Forest resource conditions in the North and South Cottonwood Creek drainage, bringing them closer to desired conditions. Attaining the Desiring Future Conditions for each Forest resource will help restore healthy ecosystem functioning and support sustainable resource use.

Alternative 1—Proposed Action

This proposal was developed in response to public issues identified during initial scoping, changes in resource demand since the Cottonwood Plain Implementation Study, and recently identified resource issues. This proposal is also designed to improve Forest resource conditions as identified in the Cottonwood Plan Implementation Study.

Possible Alternatives

Alternative 2—No Action Alternative

Analysis of this alternative is required under National Environmental Policy Act (NEPA) regulations. The No Action Alternative also serves as a baseline of information for comparison of other alternatives. Though this alternative does not respond to the purpose and need for action, it does address some issues.

Responsible Official

Greg Clark, District Forest Ranger, Big Piney Ranger District, P.O. Box 218, Big Piney, Wyoming 83113.

Nature of Decision To Be Made

This decision will be whether or not the implement specific vegetation management projects and associated road and trail head improvements, as allowed in the Bridger-Teton National Forest Plan and Cottonwood Plan Implementation Study. The decision will include any mitigation measures needed in addition to those prescribed in the Forest Plan.

Scoping Process

The Forest Service is seeking information, comments, and assistance from individuals, organizations, Tribal governments, and Federal, state, and local agencies interested in or affected by this project. Comments that were submitted during the May 14, 1999 scoping effort and during field trips of the project area will be used to prepare the Draft EIS, as will comments submitted through this public scoping request. Public participation will be solicited by notifying in person and/or by mail, known interested and affected publics. News releases will be used to give the public general notice. Public participation activities will include requests for written comments. The first formal opportunity to comment is to respond to this Notice of Intent, which initiates the scoping process (40 CFR 1501.7). Scoping includes: (1) Identifying potential issues, (2) narrowing the potential issues and identifying significant issues from those issues that have been covered by prior environmental review, (3) exploring alternatives in addition to the No Action Alternative, and (4) identifying potential environmental effects of the Proposed Action and alternatives.

Preliminary Issues

The Forest Service has identified the following potential issues. In addition, through the May 1999 scoping effort, issues have been refined. Your input is especially valuable here. It will help us determine which of these issues merit detailed analysis. It will also help identify additional issues related to the Proposed Action that may not be listed here.

Issue 1—Amount and/or types of vegetation treatments under the Proposed Action and the effects on old growth and mature vegetation for lynx, security cover for elk and other habitat, as well as Colorado cutthroat trout habitat.

Issue 2—Forest health, specifically the high proportion of older age-class conifer stands and declining tree growht, drawf mistletoe infection levels in lodgepole pine, and high fuel loadings from dead and down material.

Issue 3—Amount of aspen treatments.

Comment Requested

This Notice of Intent initiates the scoping process, which guides the development of the Draft EIS.

Early Notice of Importance of Public Participation in Subsequent Environmental Review

The Draft EIS is scheduled to be filed with the Environmental Protection Agency (EPA) in late August 2004 and to be available for public comment in September 2004. At that time, the EPA will publish a Notice of Availability for the Draft EIS in the Federal Register. The comment period on the Draft EIS will be 45 days from the date the EPA publishes the Notice of Availability in the Federal Register. The Forest Service believes, at this early stage, it is importance to give reviewers notice of several court rulings related to public participation in the environmental review process. First, reviewers of Draft EISs must structure their participation in the environmental review of the proposal so that it is meaningful and alerts an agency to the reviewer's position and contentions (Vermont Yankee Nuclear Power Corp. v. NRDC, 435 U.S. 519, 553 (1978)). Also, environmental objections that could be raised at the Draft EIS stage, but that are not raised until after completion of the Final EIS, may be waived or dismissed by the courts [City of Angoon v. Hodel, 803 F.2d 1016, 1022 (9th Cir. 1986) and Wisconsin Heritages, Inc. v. Harris, 490 F. Supp. 1334, 1338 (E.D. Wis. 19800]. Because of these court rulings, it is very important that those interested in this Proposed Action participate by the close of the 45-day comment period on the Draft EIS. This ensures that substantive comments and objections are made available to the Forest Service at a time when the Forest Service can meaningfully consider them and respond to them in the Final EIS. To assist the Forest Service in identifying and considering issues and concerns on the Proposed Action, comments on the Draft EIS should be as specific as possible. It is also helpful if comments refer to specific pages or chapters of the Draft EIS. Comments may also address the adequacy of the Draft EIS or the merits of the alternatives formulated and discussed in the Draft EIS. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, section 21).

Dated: December 17, 2003.
Gregory W. Clark,
District Forest Ranger.

[FR Doc. 03-31660 Filed 12-23-03; 8:45 am]

BILLING CODE 3410-11-M